DEPARTMENT OF COMMERCE

Foreign-Trade Zones Board

(Docket 69-2008)

Foreign-Trade Zone 149 Port Freeport, Texas, Application for Expansion

An application has been submitted to the Foreign-Trade Zones Board (the Board) by Port Freeport, grantee of FTZ 149, requesting authority to expand FTZ 149 to include a site in Fort Bend County, Texas. The application was submitted pursuant to the provisions of the Foreign-Trade Zones Act, as amended (19 U.S.C. 81a-81u), and the regulations of the Board (15 CFR part 400). It was formally filed on December 11, 2008.

FTZ 149 was approved on June 28, 1988 (Board Order 385, 53 FR 26096, July 11, 1988), and expanded on August 7, 2001 (Board Order 1185, 66 F.R. 42994, August 16, 2001). The zone currently consists of 10 sites (3,590 acres): Site 1 (280 acres)--on F.M. Route 1495 at the Freeport Harbor on the west side of the Brazos River Harbor Channel; Site 2 (154 acres)--on Holly Street in Quintana, south of the Gulf Intracoastal Waterway; Site 3 (1,063 acres)--at the intersection of Highway 288 and F.M. Route 1495; Site 4 (242 acres)--on F.M. Route 1495, north of the Gulf Intracoastal Waterway and south of the Brazos River Harbor Channel; Site 5 (213 acres)--on County Road 723 south of Site 4 and the Gulf Intracoastal Waterway; Site 6 (146 acres) located within the 665-acre Brazoria County Airport; Site 7 (506 acres)--Northern Industrial Complex, adjacent to Highway 35, Pearland (Brazoria County); Site 8 (832 acres)--Southern Industrial Complex, 4 miles from the Sam Houston Parkway/Beltway 8, Pearland (Brazoria County); Site 9 (146 acres)--Bybee-Sterling Complex, Hooper Road and Sam Houston Parkway, Pearland (Harris County); and, Site 10 (8 acres)--Santa Fe Industrial Park, 200 Avenue I, Alvin (Brazoria County).

The applicant is now requesting authority to expand the zone to include a site in Fort Bend County: Proposed Site 11 (340 acres)--International Industrial Park, 10925 Highway 59 between Beasley and Kendleton. The site will provide warehousing and distribution services to area businesses. No specific manufacturing authority is being requested at this time. Such requests would be made to the Board on a case-by-case basis.

In accordance with the Board's regulations, Elizabeth Whiteman of the FTZ Staff is designated examiner to investigate the application and report to the Board.

Public comment is invited from interested parties. Submissions (original and 3 copies) shall be addressed to the Board's Executive Secretary at the address below. The closing period for their receipt is February 20, 2009. Rebuttal comments in response to material submitted during the foregoing period may be submitted during the subsequent 15-day period to March 9, 2009.

A copy of the application and accompanying exhibits will be available for public inspection at each of the following locations: U.S. Department of Commerce Export Assistance Center, 1919 Smith Street, Suite 1026, Houston, Texas 77002. Office of the Executive Secretary, Foreign-Trade Zones Board, U.S. Department of Commerce, Room 2111, 1401 Constitution Ave. NW, Washington, DC 20230.

For further information, contact Elizabeth Whiteman at Elizabeth_Whiteman@ita.doc.gov or (202) 482-0473.

Dated: December 12, 2008.
Andrew McGilvray,
Executive Secretary.

[FR Doc. E8-30428 Filed 12-19-08; 8:45 am]

BILLING CODE 3510-DS-S